DEPARTMENT OF LABOR

Employment and Training Administration

Proposed Extension Without Change of the Unemployment Insurance (UI) Benefit Accuracy Measurement (BAM) Data Collection; Comment Request

AGENCY: Employment and Training Administration.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

A copy of the proposed information collection request (ICR) can be obtained by contacting the office listed below in the ADDRESSES section of this notice or by accessing: http://www.doleta.gov/OMBCN/OMBControlNumber.cfm.

DATES: Written comments must be submitted to the office listed in the ADDRESSES section below on or before June 1, 2009.

ADDRESSES: Send comments to Andrew W. Spisak, U.S. Department of Labor, Employment and Training Administration, Office of Workforce Security, 200 Constitution Avenue, NW., Room S-4522, Washington, DC 20210; telephone number: 202-693-3196 (this is not a toll-free number); fax: 202-693-3975; or by e-mail: spisak.andrew@dol.gov.

SUPPLEMENTARY INFORMATION: I. Background: Since 1987, all State Workforce Agencies (SWAs) except the U.S. Virgin Islands have been required by regulation at 20 CFR part 602 to operate BAM programs to assess the accuracy of their UI benefit payments in three programs: State UI, Unemployment Compensation for Federal Employees (UCFE), and Unemployment Compensation for Ex-servicemembers (UCX). Beginning in 2001, BAM was modified to include the sampling and investigation of UI claims denied for monetary, separation, or nonseparation issues.

BAM is one of the tools the Department uses to measure and reduce waste, fraud, and abuse in the UI program. By investigating small representative weekly samples of both paid and denied UI claims, each State is able to estimate reliably the number and dollar value of proper and improper payments; the number of proper and improper denials of claims for UI benefits; the rates of occurrence of these proper and improper payments and denials; and the error types, error causes, and the parties that are responsible for the errors.

Paid Claims Accuracy. Each week SWAs select random samples of both intrastate and interstate original payments (including combined wage claims) made for a week of UI benefits under the State UI, UCX or UCFE programs. A sample of 360 cases per year is pulled in the ten States with the smallest UI program workloads (defined as the average annual UI weeks paid during the last five years) and 480 cases per year in the other States. State BAM staff audit each selected claim, examining all aspects of a claimant's eligibility to receive UI benefits during the sampled week. The findings are entered into an automated database that is maintained on a computer located in each State.

Denied Claims Accuracy. Each week States select random samples from three separate sampling frames constructed from the universes of UI claims for which eligibility was denied for monetary, separation and nonseparation reasons. All States sample a minimum of 150 cases of each denial type in each calendar year. State BAM staff review agency records and contact claimants, employers, and all other relevant parties to verify information in agency records or obtain additional information pertinent to the determination that denied eligibility for UI benefits. Unlike the investigation of paid claims, in which all prior determinations affecting claimant eligibility for the compensated week selected for the sample are evaluated, the investigation of denied claims is limited to the issue upon which the denial determination is based. The findings are entered into an automated database that is maintained on a computer located in each State.

The Department maintains a database of each State's BAM paid and denied claims cases, minus any personally identifying information. The Department uses BAM data to measure State performance with respect to UI payment integrity and to meet the Department's reporting requirements of the Government Performance and Results Act (GPRA) and the Improper Payments Information Act (IPIA). The Department also relies heavily on BAM data for information on UI operations, such as the percentage of claims filed via the Internet and telephone, UI wage replacement rates, and claimant characteristics. The results of the BAM survey are reported annually on the ETA Web site, http://workforcesecurity.doleta.gov/unemploy/.

II. Desired Focus of Comments: Currently, the Employment and Training Administration is soliciting comments concerning the proposed extension of the BAM data collection. The Department's information collection authority for BAM, under Office of Management and Budget (OMB) number 1205-0245, is scheduled to expire on August 31, 2009. Comments are requested to:

• Evaluate whether the proposed collection of information is necessary to measure performance of the UI program, especially with respect to the accuracy of payments and denials of claims for benefits, including whether the information will have practical utility;

• Evaluate the accuracy of the agency's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

III. Current Actions:

Type of Review: Extension without change of a currently approved collection.

Agency: Employment and Training Administration (ETA).

Title: Unemployment Insurance Benefit Accuracy Measurement.

OMB Number: 1205-0245.

Agency Number: BAM State Operations Handbook (ET Handbook No. 395, 4th edition).

Affected Public: State Workforce Agencies (Primary), individuals, businesses, and not-for-profit institutions.

Total Respondents: 188,984 (unchanged).

Estimated Total Burden Hours: 429,897 (+ 92 − adjustment).

Total Burden Cost (Capital/Startup): $66,870 (Federal purchase of new Sun T2000 computers with printer and terminal peripherals for State agencies. Cost reflects annual cost over three-year life cycle and 30 percent pro-rata share of usage for BAM activities.)

Total Burden Cost (Operating/Maintaining): $639,649 (Annual Federal cost for contractor and software support, based on 30 percent pro-rata share for BAM activities.)

Comments submitted in response to this notice will be summarized and/or included in the request for Office of Management and Budget approval of the information collection request; they will also become a matter of public record.

Dated: March 25, 2009.
Cheryl Atkinson,
Administrator, Office of Workforce Security.

[FR Doc. E9-7120 Filed 3-30-09; 8:45 am]

BILLING CODE 4510-FW-P